DEPARTMENT OF TRANSPORTATION

Federal Aviation Administration

14 CFR Part 71

[Airspace Docket No. 00-ASO-34]

Amendment of Class E4 Airspace; Melbourne, FL

AGENCY: Federal Aviation Administration (FAA), DOT.

ACTION: Final rule.

SUMMARY: This action amends the Class E4 Airspace at Melbourne, FL, from continuous to part time, as the air traffic control towers at these locations are now part time. This action also changes the name of the airport from Melbourne Regional to Melbourne International Airport.

DATES: Effective Date: 0901 UTC, November 30, 2000.

FOR FURTHER INFORMATION CONTACT: Nancy B. Shelton, Manager, Airspace Branch, Air Traffic Division, Federal Aviation Administration, P.O. Box 20636, Atlanta, GA 30320; telephone (404) 305-5586.

SUPPLEMENTARY INFORMATION:

History

The air traffic control tower at Melbourne, FL, no longer operates continuously. Therefore, the Class E4 airspace at Melbourne, FL, must be amended from continuous to part time. Further, the name of the airport has changed from Melbourne Regional to Melbourne International Airport. This rule will become effective on the date specified in the DATES section. Since this action eliminates the impact of controlled airspace on users of the airspace in the vicinity of the Melbourne International Airport during the hours the control towers are closed, notice and public procedure under 5 U.S.C. 553(b) are unnecessary.

The Rule

This amendment to Part 71 of the Federal Aviation Regulations (14 CFR part 71) amends Class E4 airspace at Melbourne, FL. Class E4 airspace areas designated as an extension to a Class D airspace area are published in Paragraph 6004 of FAA Order 7400.9H, dated September 1, 2000, and effective September 16, 2000, which is incorporated by reference in 14 CFR 71.1. The Class E4 airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9H, Airspace Designations and Reporting Points, dated September 1, 2000, and effective September 16, 2000, is amended as follows:

Paragraph 6004 Class E4 Airspace Areas Designated as an extension to a Class D Airspace Area.

* * * * *

ASO FL E4 Melbourne, FL [Revised]

Melbourne International Airport, FL

(Lat. 28°06′10″N, long. 80°38′45″W)

Melbourne VOR/DME

(Lat. 28°06′19″N, long. 80°38′07″W)

Satellite NDB

(Lat. 28°05′58″N, long. 80°42′03″W)

That airspace extending upward from the surface within 3 miles each side of the Melbourne VOR 100° radial, extending from the 4.3-mile radius of the Melbourne International Airport to 7 miles east of the VOR and within 2.5 miles north and 3 miles south of the 267° bearing from the Satellite NDB, extending from the 4.3-mile radius of the airport to 7 miles west of the NDB. This Class E airspace area is effective during the specific dates and times established in advance by a Notice to Airmen. The effective date and time will thereafter be continuously published in the Airport/Facility Directory.

* * * * *

Issued in College Park, Georgia, on September 7, 2000.
Marvin A. Burnette,
Acting Manager, Air Traffic Division, Southern Region.

[FR Doc. 00-24145 Filed 9-21-00; 8:45 am]

BILLING CODE 4910-13-M